DEPARTMENT OF COMMERCE

National Oceanic and Atmospheric Administration

RIN 0648-XF198

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of its Shrimp Advisory Panel.

DATES: The meeting will take place on Thursday, February 16, 2017; 8:30 a.m.-4 p.m.

ADDRESSES: The meeting will be held at the Gulf of Mexico Fishery Management Council office, 2203 N. Lois Avenue, Suite 1100, Tampa, FL 33607; telephone: (813) 348-1630.

FOR FURTHER INFORMATION CONTACT: Dr. Morgan Kilgour, Fishery Biologist, Gulf of Mexico Fishery Management Council; morgan.kilgour@gulfcouncil.org; telephone: (813) 348-1630.

SUPPLEMENTARY INFORMATION:

Thursday, February 16, 2017; 8:30 a.m.-4 p.m.

Items that will be addressed in this meeting include: A biological review of the Texas closure, a review of the new stock assessments for brown, white, and pink shrimp (if available), an update on the new proposed TED regulations, and Shrimp Amendment 17B. Lastly, the Council will discuss any Other Business items.

—Meeting Adjourns

The timing and order in which agenda items are addressed may change as required to effectively address the issue. The latest version will be posted on the Council's file server, which can be accessed by going to the Council's Web site at http://www.gulfcouncil.org and clicking on FTP Server under Quick Links. For meeting materials, select the “Shrimp AP 2017-02” folder on Gulf Council file server. The username and password are both “gulfguest”. The meetings will be Webcast over the Internet. A link to the Webcast will be available on the Council's Web site, http://www.gulfcouncil.org.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: January 27, 2017.
Tracey L. Thompson,
Acting Deputy Director, Office of Sustainable Fisheries, National Marine Fisheries Service.

[FR Doc. 2017-02100 Filed 1-31-17; 8:45 am]

BILLING CODE 3510-22-P